DEPARTMENT OF HEALTH AND HUMAN SERVICES

National Institutes of Health

Delegation of Authority

Notice is hereby given that I have delegated to the Director, National Institutes of Health (NIH), the authorities under section 3 of Public Law 109-416 (Combating Autism Act of 2006), which amends Title III of the Public Health Service Act, by adding Part R, section 399CC, authorizing establishment of the Interagency Autism Coordinating Committee. I am also delegating the authority under Title III, section 399CC of the Public Health Service Act, as amended, to select Federal members of the Committee, including the chair, as appropriate. I will retain the authority under Title III, section 399CC(c)(2), pertaining to the selection of additional non-Federal public members of the Committee.

This delegation excludes the authority to submit reports to the Congress, and shall be exercised in accordance with the Department's applicable policies, procedures, and guidelines relating to regulations.

This delegation is effective upon signature. In addition, I ratified and affirmed any actions taken by the Director of the NIH or his subordinates which involved the exercise of the authorities delegated herein prior to the effective date of the delegation.

This delegation was effective upon date of signature.

Dated: July 18, 2007.
Michael O. Leavitt,
Secretary.

[FR Doc. 07-3735 Filed 7-31-07; 8:45 am]

BILLING CODE 4160-18-M